DEPARTMENT OF COMMERCE

International Trade Administration

[A-583-844]

Narrow Woven Ribbons With Woven Selvedge From Taiwan: Preliminary Determination of No Shipments and Rescission, in Part, of Antidumping Duty Administrative Review; 2017-2018

AGENCY: Enforcement and Compliance, International Trade Administration, Department of Commerce.

SUMMARY: The Department of Commerce (Commerce) preliminarily finds that Banduoo Ltd. (Banduoo), Fujian Rongshu Industry Co., Ltd. (Fujian Rongshu), Roung Shu Industry Corporation (Roung Shu), and Xiamen Yi-He Textile Co., Ltd. (Xiamen Yi-He) made no shipments of subject merchandise during the period of review (POR) of September 1, 2017 through August 31, 2018. Further, we are rescinding the review with respect to Maple Ribbon Co., Ltd. (Maple Ribbon). Interested parties are invited to comment on these preliminary results.

DATES: Applicable July 19, 2019.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Background

On September 11, 2018, Commerce published in the Federal Register a notice of opportunity to request an administrative review of the antidumping duty order on narrow woven ribbons with woven selvedge (NWR) from Taiwan for the period September 1, 2017 through August 31, 2018. On October 1, 2018, Commerce received a timely request, in accordance with section 751(a) of the Tariff Act of 1930, as amended (the Act), from Berwick Offray LLC and its wholly-owned subsidiary Lion Ribbon Company, LLC (the petitioner) to conduct an administrative review of the antidumping duty order on NWR from Taiwan manufactured and/or exported by Banduoo, Fujian Rongshu, Maple Ribbon, Roung Shu, and Xiamen Yi-He.¹

¹ See Petitioner's Letter, “Narrow Woven Ribbons With Woven Selvedge From Taiwan/Petitioner's Request for Administrative Review,” dated October 1, 2018.

In November 2018, Commerce published in the Federal Register a notice of initiation of an administrative review of the antidumping duty order on NWR from Taiwan with respect to these five companies ² for the period September 1, 2017 through August 31, 2018. Also in November 2018, we received timely submissions from Banduoo, Fujian Rongshu, Roung Shu, and Xiamen Yi-He notifying Commerce that they did not export or sell subject merchandise to the United States during the POR.³ In December 2018 and February 2019, we received additional information from Roung Shu related to its no shipment claim.⁴

² See Initiation of Antidumping and Countervailing Duty Administrative Reviews, 83 FR 57411 (November 15, 2018) (Initiation Notice).

³ See Banduoo's Letter, “Narrow Woven Ribbons with Woven Selvedge from Taiwan: No Shipment Letter,” dated November 21, 2018 (Banduoo No Shipment Letter); Fujian Rongshu's Letter, “Narrow Woven Ribbons with Woven Selvedge from Taiwan: No Shipment Letter,” dated November 21, 2018 (Fujian Rongshu No Shipment Letter); Roung Shu's Letter, “Narrow Woven Ribbons with Woven Selvedge from Taiwan: No Shipment Letter,” dated November 21, 2018; and Xiamen Yi-He's Letter, “Narrow Woven Ribbons with Woven Selvedge from Taiwan: No Shipment Letter,” dated November 21, 2018 (Xiamen Yi-He No Shipment Letter).

⁴ See Roung Shu's Letter, “Narrow Woven Ribbons with Woven Selvedge from Taiwan: Respondent Selection Comments,” dated December 21, 2018 (Roung Shu No Shipment Comments); and Roung Shu's Letter, “Narrow Woven Ribbons with Woven Selvedge from Taiwan: Additional Materials Related to No Shipments Letter,” dated February 22, 2019 (Roung Shu Additional No Shipment Comments).

In March 2019, we confirmed Banduoo's, Fujian Roung Shu's, and Xiamen Yi-He's no shipment claims with U.S. Customs and Border Protection (CBP). Also in March 2019, we selected Maple Ribbon as a mandatory respondent in this review and issued an AD questionnaire to it.⁵ However, in the same month, the petitioner timely withdrew its request for an administrative review with respect to Maple Ribbon.⁶

⁵ See Memorandum, “Respondent Selection,” dated March 13, 2019; and Commerce's Letter, “Antidumping Duty Questionnaire,” dated March 13, 2019.

⁶ See Petitioner's Letter, “Narrow Woven Ribbons With Woven Selvedge From Taiwan/Petitioner's Withdrawal Of Request For Administrative Review Of Maple Ribbon,” dated March 21, 2019 (Petitioner Withdrawal Request). We note that the petitioner's withdrawal of this request was submitted within the tolled 90-day period and, thus, is timely.

Commerce exercised its discretion to toll all deadlines affected by the partial federal government closure from December 22, 2018 through the resumption of operations on January 29, 2019.⁷ The revised deadline for the preliminary results of this review is now July 12, 2019.

⁷ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019 (Tolling Memo). All deadlines in this segment of the proceeding have been extended by 40 days.

Scope of the Order

The scope of this order covers narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof. Narrow woven ribbons subject to the order may:

• Also include natural or other non-man-made fibers;

• be of any color, style, pattern, or weave construction, including but not limited to single faced satin, double-faced satin, grosgrain, sheer, taffeta, twill, jacquard, or a combination of two or more colors, styles, patterns, and/or weave constructions;

• have been subjected to, or composed of materials that have been subjected to, various treatments, including but not limited to dyeing, printing, foil stamping, embossing, flocking, coating, and/or sizing;

• have embellishments, including but not limited to appliqué, fringes, embroidery, buttons, glitter, sequins, laminates, and/or adhesive backing;

• have wire and/or monofilament in, on, or along the longitudinal edges of the ribbon;

• have ends of any shape or dimension, including but not limited to straight ends that are perpendicular to the longitudinal edges of the ribbon, tapered ends, flared ends or shaped ends, and the ends of such woven ribbons may or may not be hemmed;

• have longitudinal edges that are straight or of any shape, and the longitudinal edges of such woven ribbon may or may not be parallel to each other;

• consist of such ribbons affixed to like ribbon and/or cut-edge woven ribbon, a configuration also known as an “ornamental trimming;”

• be wound on spools; attached to a card; hanked (i.e., coiled or bundled); packaged in boxes, trays or bags; or configured as skeins, balls, bateaus or folds; and/or

• be included within a kit or set such as when packaged with other products, including but not limited to gift bags, gift boxes and/or other types of ribbon.

Narrow woven ribbons subject to the order include all narrow woven fabrics, tapes, and labels that fall within this written description of the scope of this antidumping duty order.

Excluded from the scope of the order are the following:

(1) Formed bows composed of narrow woven ribbons with woven selvedge;

(2) “pull-bows” (i.e., an assemblage of ribbons connected to one another, folded flat and equipped with a means to form such ribbons into the shape of a bow by pulling on a length of material affixed to such assemblage) composed of narrow woven ribbons;

(3) narrow woven ribbons comprised at least 20 percent by weight of elastomeric yarn (i.e., filament yarn, including monofilament, of synthetic textile material, other than textured yarn, which does not break on being extended to three times its original length and which returns, after being extended to twice its original length, within a period of five minutes, to a length not greater than one and a half times its original length as defined in the Harmonized Tariff Schedule of the United States (HTSUS), Section XI, Note 13) or rubber thread;

(4) narrow woven ribbons of a kind used for the manufacture of typewriter or printer ribbons;

(5) narrow woven labels and apparel tapes, cut-to-length or cut-to-shape, having a length (when measured across the longest edge-to-edge span) not exceeding eight centimeters;

(6) narrow woven ribbons with woven selvedge attached to and forming the handle of a gift bag;

(7) cut-edge narrow woven ribbons formed by cutting broad woven fabric into strips of ribbon, with or without treatments to prevent the longitudinal edges of the ribbon from fraying (such as by merrowing, lamination, sono-bonding, fusing, gumming or waxing), and with or without wire running lengthwise along the longitudinal edges of the ribbon;

(8) narrow woven ribbons comprised at least 85 percent by weight of threads having a denier of 225 or higher;

(9) narrow woven ribbons constructed from pile fabrics (i.e., fabrics with a surface effect formed by tufts or loops of yarn that stand up from the body of the fabric);

(10) narrow woven ribbon affixed (including by tying) as a decorative detail to non-subject merchandise, such as a gift bag, gift box, gift tin, greeting card or plush toy, or affixed (including by tying) as a decorative detail to packaging containing non-subject merchandise;

(11) narrow woven ribbon that is (a) affixed to non-subject merchandise as a working component of such non-subject merchandise, such as where narrow woven ribbon comprises an apparel trimming, book marker, bag cinch, or part of an identity card holder, or (b) affixed (including by tying) to non-subject merchandise as a working component that holds or packages such non-subject merchandise or attaches packaging or labeling to such non-subject merchandise, such as a “belly band” around a pair of pajamas, a pair of socks or a blanket;

(12) narrow woven ribbon(s) comprising a belt attached to and imported with an item of wearing apparel, whether or not such belt is removable from such item of wearing apparel; and

(13) narrow woven ribbon(s) included with non-subject merchandise in kits, such as a holiday ornament craft kit or a scrapbook kit, in which the individual lengths of narrow woven ribbon(s) included in the kit are each no greater than eight inches, the aggregate amount of narrow woven ribbon(s) included in the kit does not exceed 48 linear inches, none of the narrow woven ribbon(s) included in the kit is on a spool, and the narrow woven ribbon(s) is only one of multiple items included in the kit.

The merchandise subject to this order is classifiable under the HTSUS statistical categories 5806.32.1020; 5806.32.1030; 5806.32.1050; and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.

Preliminary Determination of No Shipments

On November 21, 2018, Banduoo, Fujian Rongshu, Roung Shu, and Xiamen Yi-He timely filed statements reporting that they made no shipments of subject merchandise to the United States during the POR.⁸ We confirmed the claims from Banduoo, Fujian Rongshu, and Xiamen Yi-He with CBP. Based on this information, we preliminarily determine that Banduoo, Fujian Rongshu, and Xiamen Yi-He had no shipments during the POR.

⁸ See Banduoo No Shipment Letter; Fujian Rongshu No Shipment Letter; and Xiamen Yi-He No Shipment Letter.

With respect to Roung Shu, we noted that the CBP data placed on the record of this review contained entries from Roung Shu which were classified as subject merchandise. Roung Shu submitted comments regarding the CBP data, in which it explained that its customers had erroneously categorized the entries as subject merchandise.⁹ To support its statements, Roung Shu submitted factual information related to the entries which demonstrated that the products contained in the shipments were not subject to the review, and it provided documentation filed by the importer with CBP to correct the entry type.¹⁰ After reviewing the additional information provided by Roung Shu, we preliminarily determine that Roung Shu also had no shipments during the POR.

⁹ See Roung Shu No Shipment Comments; and Roung Shu Additional No Shipment Comments.

¹⁰ See Roung Shu No Shipment Comments; and Roung Shu Additional No Shipment Comments.

Consistent with our practice, we are not preliminarily rescinding the review with respect to Banduoo, Fujian Rongshu, Roung Shu, and Xiamen Yi-He but, rather, we will complete the review with respect to these companies and issue appropriate instructions to CBP based on the final results of this review.¹¹

¹¹ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR at 51306 (August 28, 2014).

Rescission of Review, in Part

Pursuant to 19 CFR 351.213(d)(1), Commerce will rescind an administrative review, in whole or in part, if a party that requested the review withdraws the request within 90 days of the date of publication of notice of initiation of the requested review. The petitioner's withdrawal of its request with respect to Maple Ribbon was submitted within the 90-day period and, thus, is timely.¹² Because the petitioner's withdrawal of its request with respect to Maple Ribbon for an antidumping duty administrative review is timely, and because no other party requested a review of this company, in accordance with 19 CFR 351.213(d)(1), we are rescinding this administrative review, in part, with respect to Maple Ribbon.

¹² See Petitioner Withdrawal Request; see also Tolling Memo.

Public Comment

Case briefs or other written comments may be submitted to the Assistant Secretary for Enforcement and Compliance no later than 30 days after the date of publication of this notice.¹³ Rebuttal briefs, limited to issues raised in the case briefs, may be submitted no later than five days after the deadline date for case briefs.¹⁴ Pursuant to 19 CFR 351.309(c)(2) and (d)(2), parties who submit case briefs or rebuttal briefs in this investigation are encouraged to submit with each argument: (1) A statement of the issue; (2) a brief summary of the argument; and (3) a table of authorities. Case and rebuttal briefs should be filed electronically via Enforcement and Compliance's Antidumping and Countervailing Duty Centralized Electronic Service System (ACCESS) and must be received successfully in its entirety by 5:00 p.m. Eastern Time by ACCESS.¹⁵ ACCESS is available to registered users at https://access.trade.gov, and to all parties in the Central Records Unit, Room B8024 of the main Commerce building.

¹³ See 19 CFR 351.309(c).

¹⁴ See 19 CFR 351.309(d).

¹⁵ See 19 CFR 351.303.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Commerce intends to issue the final results of this administrative review, including the results of its analysis raised in any written briefs, not later than 120 days after the publication date of this notice, pursuant to section 751(a)(3)(A) of the Act, unless extended.¹⁶

¹⁶ See section 751(a)(2)(B)(iv) of the Act; and 19 CFR 351.213(h)(2).

Assessment Rates

With respect to Maple Ribbon, Commerce will instruct CBP to assess antidumping duties at the cash deposit rate in effect on the date of entry for entries during the period September 1, 2017 through August 31, 2018, in accordance with 19 CFR 351.212(c)(1)(i). We intend to issue liquidation instructions to CBP 15 days after publication of this notice.

With respect to the remaining companies covered by the review, upon issuance of the final results, Commerce shall determine, and CBP shall assess, antidumping duties on all appropriate entries covered by this review.¹⁷ The final results of this review shall be the basis for the assessment of antidumping duties on entries of merchandise covered by the final results of this review.¹⁸

¹⁷ See 19 CFR 351.212(b)(1).

¹⁸ See section 751(a)(2)(C) of the Act.

Further, if we continue to find in the final results that Banduoo, Fujian Rongshu, Roung Shu, and Xiamen Yi-He had no shipments of subject merchandise during the POR, we will instruct CBP to liquidate any suspended entries that entered under their antidumping duty case numbers (i.e., at that exporter's rate) at the all-others rate if there is no rate for the intermediate company(ies) involved in the transaction. We intend to issue liquidation instructions for Banduoo, Fujian Rongshu, Roung Shu, and Xiamen Yi-He to CBP 15 days after publication of the final results of this review.

Cash Deposit Requirements

The following deposit requirements will be effective upon publication of the notice of final results of administrative review for all shipments of the subject merchandise entered, or withdrawn from warehouse, for consumption on or after the date of publication as provided by section 751(a)(2)(C) of the Act: (1) For merchandise exported by manufacturers or exporters not covered in this review but covered in a prior segment of the proceeding, the cash deposit rate will continue to be the company-specific rate published from the most recently completed segment; (2) if the exporter is not a firm covered in this review, or the original investigation, but the manufacturer is, the cash deposit rate will be the rate established for the most recently completed segment for the manufacturer of the merchandise; and (3) the cash deposit rate for all other manufacturers or exporters will continue to be 4.37 percent, the all-others rate determined in the less-than-fair-value investigation.¹⁹ These cash deposit requirements, when imposed, shall remain in effect until further notice.

¹⁹ See Narrow Woven Ribbons With Woven Selvedge from Taiwan and the People's Republic of China: Amended Antidumping Duty Orders, 75 FR 56982, 56985 (September 17, 2010).

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification Regarding Administrative Protective Order

This notice serves as a preliminary reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

We are issuing and publishing these results in accordance with sections 751(a)(1) and 777(i)(1) of the Act, and 19 CFR 351.221(b)(4).

Dated: July 12, 2019.
Jeffrey I. Kessler,
Assistant Secretary for Enforcement and Compliance.

[FR Doc. 2019-15409 Filed 7-18-19; 8:45 am]

BILLING CODE 3510-DS-P